DEPARTMENT OF THE INTERIOR

National Park Service

Boston Harbor Islands Advisory Council; Notice of Meeting

Notice is hereby given in accordance with the Federal Advisory Committee Act (PL 92-463) that the Boston Harbor Islands Advisory Council will meet on Wednesday, March 7, 2007. The meeting will be held on Spectacle Island in the Boston Harbor Islands national park area. The boat will depart promptly at 3 p.m. from Fan Pier, 2 Northern Avenue, Boston, MA 02210. We suggest you arrive at least 20 minutes prior to departure to allow time for boarding. The boat will return to Fan Pier at 6:30 p.m. Meeting attendees should sign up in advance by contacting Mary Raczko at Mary_Raczko@nps.gov or 617-223-8637 to ensure a space on the boat. The trip will go rain or shine, but in the event of severe weather, the meeting will be moved to the National Park Service office at 408 Atlantic Avenue, Suite 237, Boston, MA and be held from 3:30 p.m. to 5:30 p.m. In the case of a boat cancellation, we will make every attempt to contact participants and notice will be posted on http://www.BostonIslands.com and on the park's information line 617-223-8666 (option #2 for trip updates).

The Advisory Council was appointed by the Director of National Park Service pursuant to Pub. L. 104-333. The 28 members represent business, educational/cultural, community and environmental entities; municipalities surrounding Boston Harbor; Boston Harbor advocates; and Native American interests. The purpose of the Council is to advise and make recommendations to the Boston Harbor Islands Partnership with respect to the development and implementation of a management plan and the operations of the Boston Harbor Islands national park area.

The Agenda for this meeting is as follows:

1. Call to Order, Introductions of Advisory Council members present

2. Review and approval of minutes of the December meeting

3. Guest Speaker, Kathy Abbott, Director, Conservation and Recreation Campaign

4. Membership/Election of Officers

5. Park Update

6. New Business

7. Public Comment

8. Adjourn

The meeting is open to the public. Further information concerning Council meetings may be obtained from the Superintendent, Boston Harbor Islands. Interested persons may make oral/written presentations to the Council or file written statements. Such requests should be made at least seven days prior to the meeting to: Superintendent, Boston Harbor Islands NRA, 408 Atlantic Avenue, Boston, MA 02110, telephone (617) 223-8667.

Dated: January 18, 2007.
Bruce Jacobson,
Superintendent, Boston Harbor Islands NRA.

[FR Doc. E7-2756 Filed 2-15-07; 8:45 am]

BILLING CODE 4310-8G-P